DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed test of the “Occupational Requirements Survey.” A copy of the proposed information collection request (ICR) can be obtained by contacting the individual listed below in the Addresses section of this notice.

DATES: Written comments must be submitted to the office listed in the Addresses section of this notice on or before May 23, 2014.

ADDRESSES: Send comments to Nora Kincaid, BLS Clearance Officer, Division of Management Systems, Bureau of Labor Statistics, Room 4080, 2 Massachusetts Avenue NE., Washington, DC 20212. Written comments also may be transmitted by fax to 202-691-5111 (this is not a toll free number.)

FOR FURTHER INFORMATION CONTACT: Nora Kincaid, BLS Clearance Officer, at 202-691-7628 (this is not a toll free number.) (See Addresses section.)

SUPPLEMENTARY INFORMATION:

I. Background

The Occupational Requirements Survey (ORS) is a nationwide test survey that the Bureau of Labor Statistics (BLS) will conduct at the request of the Social Security Administration (SSA).

BLS will evaluate ORS survey processes and operations in a production environment. Data collection and capture will run for approximately six months and will conclude in FY 2015. A full evaluation of the data elements captured for this test will be followed by an evaluation of the processes, survey design, and other test program elements.

Estimates produced from the test data collected by this ORS Test will be used by the SSA to determine how to use updated requirements data in administering the Social Security Disability Insurance (SSDI) program but will not be used to resolve any determination cases.

The Social Security Administration, Members of Congress, and representatives of the disability community have all identified collection of updated information on the requirements of work in today's economy as crucial to the equitable and efficient operation of the SSDI program. The information currently available is more than 20 years old.

The ORS will collect data from a sample of employers. These requirements of work data will consist of information about the duties, responsibilities, job tasks and earnings for a sample of occupations for each sampled employer.

This is a one-time ORS test for sampled establishments.

II. Current Action

Office of Management and Budget clearance is being sought for the Occupational Requirements Survey Test.

The following data will be collected in this ORS test as defined by the SSA's disability program and is data that the National Compensation Survey (NCS) does not currently collect:

(1) An indicator of “time to proficiency,” defined as the amount of time required by a typical worker to learn the techniques, acquire the information, and develop the facility needed for average job performance, comparable to the Specific Vocational Preparation (SVP) used in the Dictionary of Occupational Titles (DOT).

(2) Physical Demand characteristics/factors of occupations, measured in such a way to support SSA disability determination needs, comparable to measures in Appendix C of the Selected Characteristics of Occupations (SCO).

(3) Environmental Conditions, measured in such a way to support SSA disability determination needs, comparable to measures in Appendix D of the SCO.

(4) Data elements that describe the mental and cognitive demands of work.

(5) Occupational Task lists data as identified in the Employment and Training Administration's (ETA's) O*Net Program in order to validate the key tasks common across establishments and identify other tasks commonly performed.

Some data needed for ORS are currently collected by BLS's NCS. The ORS data will be collected with the same methodology as data collected for NCS. The general establishment data collected on establishments in the survey samples will be the same for ORS and NCS. The Probability Selection of Occupations (PSO) methodology—a disaggregating technique for selecting individual items from a large number of items—will also be used by both ORS and NCS. For ORS and NCS, these items are employees, occupations, divisions, or sub-units depending upon the application of the sampling procedure being used. Wages (earnings) are elements of the ORS data already collected by the NCS. The work level of jobs data (factor evaluation method with four factors to evaluate the work level) methodology will also be used in the ORS survey, as it is currently in NCS.

The ORS Test Time Schedule calls for data collection to go from September 2014 to March 2015.

BLS will disseminate the ORS test results in September 2015. The ORS Test will have 8 collection forms (having unique private industry and government collection forms). For those sampled establishments that are in the current NCS, the ORS survey will use NCS data and forms for those data elements that overlap.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: New Collection.

Agency: Bureau of Labor Statistics.

Title: Occupational Requirements Survey.

OMB Number: 1220-XXXX.

Affected Public: Businesses or other for-profit; not-for-profit institutions; and State, local, and tribal government.

Total Respondents: 2550.

Total Burden Cost (capital/startup): $0.

Total Burden Cost (operating/maintenance): $0.

All figures below are for the anticipated respondent collection burden by forms for FY 2014 and FY 2015 for this test survey.

Form | Total respondents per form | Frequency | Total annual responses | Average minutes for the predominant form use | Total hours
Establishment collection form (ORS Form 1 PP-1G ) | 256 | 1 | 256 | 19 | 81
Establishment collection form (ORS Form 1 PP-1P) | 1452 | 1 | 1452 | 19 | 460
Earnings form (ORS Form 2 PP-2G) | 256 | 1 | 256 | 20 | 85
Earnings form (ORS Form 2 PP-2P) | 1452 | 1 | 1452 | 20 | 484
Work Level (ORS Form 3 PP-3G) | 256 | 1 | 256 | 25 | 107
Work Level (ORS Form 3 PP3-3P) | 1452 | 1 | 1452 | 25 | 605
Occupation requirements (ORS Form 4 PPD-4G) | 382 | 1 | 382 | 76 | 484
Occupation requirements (ORS Form 4 PPD-4P) | 2168 | 1 | 2168 | 76 | 2746
Totals | 7674 |  | 7674 |  | 5052

Comments submitted in response to this notice will be summarized and/or included in the request for Office of Management and Budget approval of the information collection request; they also will become a matter of public record.

Signed at Washington, DC, this 10th day of March 2014.
Eric Molina,
Acting Chief, Division of Management Systems, Bureau of Labor Statistics.

[FR Doc. 2014-06376 Filed 3-21-14; 8:45 am]

BILLING CODE 4510-24-P